DEPARTMENT OF HOMELAND SECURITY

Coast Guard

33 CFR Part 117

[Docket No. USCG-2012-0250]

Drawbridge Operation Regulation; Mile 21.6, Illinois Waterway, Hardin, IL

AGENCY: Coast Guard, DHS.

ACTION: Notice of temporary deviation from regulations.

SUMMARY: The Coast Guard has issued a temporary deviation from the operating schedule that governs the Hardin Drawbridge across the Illinois Waterway, mile 21.6, at Hardin, Illinois. The deviation is necessary to replace the main gear case that operates the lift span. The gear case has been making noise indicating possible failure. This deviation allows the bridge to remain in the closed position while the existing gear box is replaced with one recently fabricated.

DATES: This deviation is effective from 7 a.m. on April 3, 2012 through 7 p.m. on April 5, 2012.

ADDRESSES: Documents mentioned in this preamble as being available in the docket are part of docket USCG-2012-0250 and are available online by going to http://www.regulations.gov, inserting USCG-2012-0250 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Eric A. Washburn, Bridge Administrator, Western Rivers, Coast Guard 314-269-2378, email Eric.Washburn@uscg.mil. If you have questions on viewing the docket, call Renee V. Wright, Program Manager, Docket Operations, telephone 202-366-9826.

SUPPLEMENTARY INFORMATION: The Illinois Department of Transportation requested a temporary deviation for the Hardin Drawbridge, across the Illinois Waterway, mile 21.6, at Hardin, Illinois to remain in the closed-to-navigation position for a two and one half day period while the main gear case is replaced. The closure period will start at 7 a.m. on or about April 3, 2012 and end at 7 p.m. on April 5, 2012.

Once the existing gear case is removed, the lift span will not be able to open, even for emergencies, until the replacement gear box is installed.

The Hardin Drawbridge currently operates in accordance with 33 CFR 117.5, which states the general requirement that drawbridges shall open promptly and fully for the passage of vessels when a request to open is given in accordance with the subpart.

There are no alternate routes for vessels transiting this section of the Illinois Waterway. The Hardin Drawbridge, in the closed-to-navigation position, provides a vertical clearance of 25.9 feet above normal pool. Navigation on the waterway consists primarily of commercial tows and recreational watercraft. This temporary deviation has been coordinated with the waterway users.

In accordance with 33 CFR 117.35(e), the drawbridge must return to its regular operating schedule immediately at the end of the designated time period. This deviation from the operating regulations is authorized under 33 CFR 117.35.

Dated: March 22, 2012.
Eric A. Washburn,
Bridge Administrator, Western Rivers.

[FR Doc. 2012-7922 Filed 4-2-12; 8:45 am]

BILLING CODE 9110-04-P